DEPARTMENT OF THE TREASURY

Office of Foreign Assets Control

31 CFR Part 589

Publication of Ukraine-Related Web General License 13 and Subsequent Iterations

AGENCY: Office of Foreign Assets Control, Treasury.

ACTION: Publication of web general licenses.

SUMMARY: The Department of the Treasury's Office of Foreign Assets Control (OFAC) is publishing 17 Ukraine-related web general licenses (GLs) in the Federal Register: GL 13, GL 13A, GL 13B, GL 13C, GL 13D, GL 13E, GL 13F, GL 13G, GL 13H, GL 13I, GL 13J, GL 13K, GL 13L, GL 13M, GL 13N, and GL 13O, each of which is now expired, and was previously issued on OFAC's website, as well as GL 13P, which was also previously issued on OFAC's website.

DATES: GL 13P was issued on December 23, 2020 and expires on January 26, 2022. See SUPPLEMENTARY INFORMATION of this rule for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treasury.gov/ofac.

Background

On March 6, 2014, the President, invoking the authority of, inter alia, the International Emergency Economic Powers Act (50 U.S.C. 1701-1706) (IEEPA), issued Executive Order (E.O.) 13660, “Blocking Property of Certain Persons Contributing to the Situation in Ukraine” (79 FR 13493, March 10, 2014). In E.O. 13660, the President determined that the actions and policies of persons including persons who have asserted governmental authority in the Crimean region without the authorization of the Government of Ukraine that undermine democratic processes and institutions in Ukraine; threaten its peace, security, stability, sovereignty, and territorial integrity; and contribute to the misappropriation of its assets, constitute an unusual and extraordinary threat to the national security and foreign policy of the United States, and declared a national emergency to deal with that threat.

The President subsequently issued E.O. 13661 of March 16, 2014, “Blocking Property of Additional Persons Contributing to the Situation in Ukraine” (79 FR 15535, March 19, 2014), and E.O. 13662 of March 20, 2014, “Blocking Property of Additional Persons Contributing to the Situation in Ukraine” (79 FR 16169, March 20, 2014), pursuant to the national emergency declared in E.O. 13660. E.O. 13661 and E.O. 13662 expanded the scope of the national emergency declared in E.O. 13660. On May 8, 2014, OFAC published the Ukraine Related Sanctions Regulations, 31 CFR part 589 (the “Regulations”), to implement E.O. 13660, E.O. 13661, and E.O. 13662 (79 FR 26365, May 8, 2014). The President has issued additional Executive orders pursuant to the national emergency declared in E.O. 13660, and expanded in E.O. 13661 and E.O. 13662, which are not discussed in this publication as they are not relevant to the web GLs being published.

OFAC, in consultation with the Department of State, issued GL 13 on April 6, 2018, pursuant to the Regulations, to authorize certain transactions and activities with specific blocked entities that were otherwise prohibited by the Regulations. Subject to certain conditions, GL 13 authorized activities and transactions that were ordinarily incident and necessary to divest or transfer debt, equity, or other holdings in the entities to a non-U.S. person, or facilitate the transfer of debt, equity, or other holdings in the entities by a non U.S. person to another non-U.S. person. Subsequently, OFAC issued 16 further iterations of GL 13, which extended and expanded the authorization to include entities in which those entities owned, directly or indirectly, a 50 percent or greater interest, and other issuer holdings, and in later iterations narrowed the scope of the authorization, due to the removal of two entities, EN+ Group PLC and United Company RUSAL PLC, from OFAC's Specially Designated Nationals and Blocked Persons List on January 27, 2019.

On May 1, 2018, OFAC issued GL 13A which replaced and superseded GL 13; on May 31, 2018, OFAC issued GL 13B, which replaced and superseded GL 13A; on July 31, 2018, OFAC issued GL 13C, which replaced and superseded GL 13B; on September 21, 2018, OFAC issued GL 13D, which replaced and superseded GL 13C; on October 12, 2018, OFAC issued GL 13E, which replaced and superseded GL 13D; on October 19, 2018, OFAC issued GL 13F, which replaced and superseded GL 13E; on November 9, 2018, OFAC issued GL 13G, which replaced and superseded GL 13F; on December 7, 2018, OFAC issued GL 13H, which replaced and superseded GL 13G; on December 20, 2018, OFAC issued GL 13I, which replaced and superseded GL 13H; on January 16, 2019, OFAC issued GL 13J, which replaced and superseded GL 13I; on March 6, 2019, OFAC issued GL 13K, which replaced and superseded GL 13J; on June 26, 2019, OFAC issued GL 13L, which replaced and superseded GL 13K; on November 1, 2019, OFAC issued GL 13M, which replaced and superseded GL 13L; on March 20, 2020, OFAC issued GL 13N, which replaced and superseded GL 13M; on July 16, 2020, OFAC issued GL 13O, which replaced and superseded GL 13N; and on December 23, 2020, OFAC issued GL 13P, which replaced and superseded GL 13O. GL 13P expires on January 26, 2022. The texts of the following 17 GLs are provided below: GLs 13, 13A, 13B, 13C, 13D, 13E, 13F, 13G, 13H, 13I, 13J, 13K, 13L, 13M, 13N, 13O, and 13P.

OFFICE OF FOREIGN ASSETS CONTROL

Ukraine Related Sanctions Regulations 31 CFR Part 589

General License No. 13

Authorizing Certain Transactions Necessary To Divest or Transfer Debt, Equity, or Other Holdings in Certain Blocked Persons

(a) Except as provided in paragraph (c) of this general license, all transactions and activities otherwise prohibited by the Ukraine Related Sanctions Regulations, 31 CFR part 589, that are ordinarily incident and necessary to divest or transfer debt, equity, or other holdings in the following blocked persons to a non-U.S. person, or to facilitate the transfer of debt, equity, or other holdings in the following blocked persons by a non-U.S. person to another non-U.S. person, are authorized through 12:01 a.m. eastern daylight time, May 7, 2018:

• EN+ Group PLC

• GAZ Group

• United Company RUSAL PLC

(b) The transactions and activities authorized in paragraph (a) include facilitating, clearing, and settling transactions to divest to a non-U.S. person debt, equity, or other holdings in the blocked persons identified in paragraph (a), including on behalf of U.S. persons.

(c) This general license does not authorize:

(1) The unblocking of any property blocked pursuant to any part of 31 CFR chapter V, except as authorized by paragraph (a);

(2) U.S. persons to sell debt, equity, or other holdings to; to purchase or invest in debt, equity, or other holdings in; or to facilitate such transactions with, directly or indirectly, any person whose property and interests in property are blocked pursuant to 31 CFR part 589, including the blocked persons identified in paragraph (a);

(3) Any transactions or dealings involving the property or interests in property of any person whose property and interests in property are blocked pursuant to 31 CFR part 589 other than the blocked persons listed in paragraph (a) of this general license; or

(4) Any transactions or dealings otherwise prohibited by any other part of 31 CFR chapter V.

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

Andrea Gacki,

Acting Director, Office of Foreign Assets Control.

Dated: April 6, 2018.

OFFICE OF FOREIGN ASSETS CONTROL

Ukraine Related Sanctions Regulations 31 CFR Part 589

General License No. 13A

Authorizing Certain Transactions Necessary To Divest or Transfer Debt, Equity, or Other Holdings in Certain Blocked Persons

(a) Except as provided in paragraph (d) of this general license, all transactions and activities otherwise prohibited by the Ukraine Related Sanctions Regulations, 31 CFR part 589, that are ordinarily incident and necessary (1) to divest or transfer debt, equity, or other holdings in the following blocked persons to a non-U.S. person, or (2) to facilitate the transfer of debt, equity, or other holdings in the following blocked persons by a non-U.S. person to another non-U.S. person, are authorized through 12:01 a.m. eastern daylight time, June 6, 2018:

• EN+ Group PLC

• GAZ Group

• United Company RUSAL PLC

(b) Except as provided in paragraph (d) of this general license, all transactions and activities otherwise prohibited by 31 CFR part 589 that are ordinarily incident and necessary (1) to divest or transfer debt, equity, or other holdings in EN+ Group PLC, GAZ Group, or United Company RUSAL PLC, or in entities in which those persons own, directly or indirectly, a 50 percent or greater interest, that were issued by the persons listed below (hereinafter, “Other Issuer Holdings”), to a non-U.S. person; or (2) to facilitate the transfer of Other Issuer Holdings by a non-U.S. person to another non-U.S. person, are authorized through 12:01 a.m. eastern daylight time, June 6, 2018:

• Irkutskenergo

• GAZ Auto Plant

• Rusal Capital Designated Activity Company

(c) The transactions and activities authorized in paragraphs (a) and (b) include facilitating, clearing, and settling transactions to divest to a non-U.S. person debt, equity, or other holdings in EN+ Group PLC, GAZ Group, or United Company RUSAL PLC, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including EN+ Group PLC, GAZ Group, or United Company RUSAL PLC, other than purchases of or investments in debt, equity, or other holdings in those persons, or Other Issuer Holdings as described in paragraph (b) (including settlement of purchases or sales that were pending on April 6, 2018), that are ordinarily incident and necessary to the divestment or transfer of debt, equity, or other holdings in EN+ Group PLC, GAZ Group, or United Company RUSAL PLC, or Other Issuer Holdings as described in paragraph (b);

(3) Any transactions or dealings involving the property or interests in property of any person whose property and interests in property are blocked pursuant to 31 CFR part 589 other than EN+ Group PLC, GAZ Group, or United Company RUSAL PLC, or any entity in which those persons have a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) Effective May 1, 2018, General License No. 13, dated April 6, 2018, is replaced and superseded in its entirety by this General License No. 13A.

John E. Smith,

Director, Office of Foreign Assets Control.

Dated: May 1, 2018.

OFFICE OF FOREIGN ASSETS CONTROL

Ukraine Related Sanctions Regulations 31 CFR Part 589

General License No. 13B

Authorizing Certain Transactions Necessary To Divest or Transfer Debt, Equity, or Other Holdings in Certain Blocked Persons

(a) Except as provided in paragraph (d) of this general license, all transactions and activities otherwise prohibited by the Ukraine Related Sanctions Regulations, 31 CFR part 589, that are ordinarily incident and necessary (1) to divest or transfer debt, equity, or other holdings in the following blocked persons to a non-U.S. person, or (2) to facilitate the transfer of debt, equity, or other holdings in the following blocked persons by a non-U.S. person to another non-U.S. person, are authorized through 12:01 a.m. eastern daylight time, August 5, 2018:

• EN+ Group PLC

• GAZ Group

• United Company RUSAL PLC

(b) Except as provided in paragraph (d) of this general license, all transactions and activities otherwise prohibited by 31 CFR part 589 that are ordinarily incident and necessary (1) to divest or transfer debt, equity, or other holdings in EN+ Group PLC, GAZ Group, or United Company RUSAL PLC, or in entities in which those persons own, directly or indirectly, a 50 percent or greater interest, that were issued by the persons listed below (hereinafter, “Other Issuer Holdings”), to a non-U.S. person; or (2) to facilitate the transfer of Other Issuer Holdings by a non-U.S. person to another non-U.S. person, are authorized through 12:01 a.m. eastern daylight time, August 5, 2018:

• Irkutskenergo

• GAZ Auto Plant

• Rusal Capital Designated Activity Company

(c) The transactions and activities authorized in paragraphs (a) and (b) include facilitating, clearing, and settling transactions to divest to a non-U.S. person debt, equity, or other holdings in EN+ Group PLC, GAZ Group, or United Company RUSAL PLC, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including EN+ Group PLC, GAZ Group, or United Company RUSAL PLC, other than purchases of or investments in debt, equity, or other holdings in those persons, or Other Issuer Holdings as described in paragraph (b) (including settlement of purchases or sales that were pending on April 6, 2018), that are ordinarily incident and necessary to the divestment or transfer of debt, equity, or other holdings in EN+ Group PLC, GAZ Group, or United Company RUSAL PLC, or Other Issuer Holdings as described in paragraph (b);

(3) Any transactions or dealings involving the property or interests in property of any person whose property and interests in property are blocked pursuant to 31 CFR part 589 other than EN+ Group PLC, GAZ Group, or United Company RUSAL PLC, or any entity in which those persons have a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) Effective May 31, 2018, General License No. 13A, dated May 1, 2018, is replaced and superseded in its entirety by this General License No. 13B.

Andrea Gacki,

Acting Director, Office of Foreign Assets Control.

Dated: May 31, 2018.

OFFICE OF FOREIGN ASSETS CONTROL

Ukraine Related Sanctions Regulations 31 CFR Part 589

General License No. 13C

Authorizing Certain Transactions Necessary To Divest or Transfer Debt, Equity, or Other Holdings in Certain Blocked Persons

(a) Except as provided in paragraph (d) of this general license, all transactions and activities otherwise prohibited by the Ukraine Related Sanctions Regulations, 31 CFR part 589, that are ordinarily incident and necessary (1) to divest or transfer debt, equity, or other holdings in the following blocked persons to a non-U.S. person, or (2) to facilitate the transfer of debt, equity, or other holdings in the following blocked persons by a non-U.S. person to another non-U.S. person, are authorized through 12:01 a.m. eastern daylight time, October 23, 2018:

• EN+ Group PLC

• GAZ Group

• United Company RUSAL PLC

(b) Except as provided in paragraph (d) of this general license, all transactions and activities otherwise prohibited by 31 CFR part 589 that are ordinarily incident and necessary (1) to divest or transfer debt, equity, or other holdings in EN+ Group PLC, GAZ Group, or United Company RUSAL PLC, or in entities in which those persons own, directly or indirectly, a 50 percent or greater interest, that were issued by the persons listed below (hereinafter, “Other Issuer Holdings”), to a non-U.S. person; or (2) to facilitate the transfer of Other Issuer Holdings by a non-U.S. person to another non-U.S. person, are authorized through 12:01 a.m. eastern daylight time, October 23, 2018:

• Irkutskenergo

• GAZ Auto Plant

• Rusal Capital Designated Activity Company

(c) The transactions and activities authorized in paragraphs (a) and (b) include facilitating, clearing, and settling transactions to divest to a non-U.S. person debt, equity, or other holdings in EN+ Group PLC, GAZ Group, or United Company RUSAL PLC, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including EN+ Group PLC, GAZ Group, or United Company RUSAL PLC, other than purchases of or investments in debt, equity, or other holdings in those persons, or Other Issuer Holdings as described in paragraph (b) (including settlement of purchases or sales that were pending on April 6, 2018), that are ordinarily incident and necessary to the divestment or transfer of debt, equity, or other holdings in EN+ Group PLC, GAZ Group, or United Company RUSAL PLC, or Other Issuer Holdings as described in paragraph (b);

(3) Any transactions or dealings involving the property or interests in property of any person whose property and interests in property are blocked pursuant to 31 CFR part 589 other than EN+ Group PLC, GAZ Group, or United Company RUSAL PLC, or any entity in which those persons have a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) Effective July 31, 2018, General License No. 13B, dated May 31, 2018, is replaced and superseded in its entirety by this General License No. 13C.

Andrea Gacki,

Acting Director, Office of Foreign Assets Control.

Dated: July 31, 2018.

OFFICE OF FOREIGN ASSETS CONTROL

Ukraine Related Sanctions Regulations 31 CFR Part 589

General License No. 13D

Authorizing Certain Transactions Necessary To Divest or Transfer Debt, Equity, or Other Holdings in Certain Blocked Persons

(a) Except as provided in paragraph (d) of this general license, all transactions and activities otherwise prohibited by the Ukraine Related Sanctions Regulations, 31 CFR part 589, that are ordinarily incident and necessary (1) to divest or transfer debt, equity, or other holdings in the following blocked persons to a non-U.S. person, or (2) to facilitate the transfer of debt, equity, or other holdings in the following blocked persons by a non-U.S. person to another non-U.S. person, are authorized through the Applicable Expiration Date, as defined in paragraph (f) of this general license:

• EN+ Group PLC

• GAZ Group

• United Company RUSAL PLC

(b) Except as provided in paragraph (d) of this general license, all transactions and activities otherwise prohibited by 31 CFR part 589 that are ordinarily incident and necessary (1) to divest or transfer debt, equity, or other holdings in EN+ Group PLC, GAZ Group, or United Company RUSAL PLC, or in entities in which those persons own, directly or indirectly, a 50 percent or greater interest, that were issued by the persons listed below (hereinafter, “Other Issuer Holdings”), to a non-U.S. person; or (2) to facilitate the transfer of Other Issuer Holdings by a non-U.S. person to another non-U.S. person, are authorized through the Applicable Expiration Date, as defined in paragraph (f) of this general license:

• Irkutskenergo

• GAZ Auto Plant

• Rusal Capital Designated Activity Company

(c) The transactions and activities authorized in paragraphs (a) and (b) include facilitating, clearing, and settling transactions to divest to a non-U.S. person debt, equity, or other holdings in EN+ Group PLC, GAZ Group, or United Company RUSAL PLC, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including EN+ Group PLC, GAZ Group, or United Company RUSAL PLC, other than purchases of or investments in debt, equity, or other holdings in those persons, or Other Issuer Holdings as described in paragraph (b) (including settlement of purchases or sales that were pending on April 6, 2018), that are ordinarily incident and necessary to the divestment or transfer of debt, equity, or other holdings in EN+ Group PLC, GAZ Group, or United Company RUSAL PLC, or Other Issuer Holdings as described in paragraph (b);

(3) Any transactions or dealings involving the property or interests in property of any person whose property and interests in property are blocked pursuant to 31 CFR part 589 other than EN+ Group PLC, GAZ Group, or United Company RUSAL PLC, or any entity in which those persons have a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) For purposes of this general license, the term Applicable Expiration Date means:

(1) With respect to transactions authorized by this general license involving GAZ Group or entities in which GAZ Group owns, directly or indirectly, a 50 percent or greater interest, 12:01 a.m. eastern daylight time, October 23, 2018; and

(2) With respect to transactions authorized by this general license involving EN+ Group PLC or United Company RUSAL PLC, or entities in which those persons own, directly or indirectly, a 50 percent or greater interest, 12:01 eastern standard time, November 12, 2018.

(g) Effective September 21, 2018, General License No. 13C, dated July 31, 2018, is replaced and superseded in its entirety by this General License No. 13D.

Andrea Gacki,

Director, Office of Foreign Assets Control.

Dated: September 21, 2018.

OFFICE OF FOREIGN ASSETS CONTROL

Ukraine Related Sanctions Regulations 31 CFR Part 589

General License No. 13E

Authorizing Certain Transactions Necessary To Divest or Transfer Debt, Equity, or Other Holdings in Certain Blocked Persons

(a) Except as provided in paragraph (d) of this general license, all transactions and activities otherwise prohibited by the Ukraine Related Sanctions Regulations, 31 CFR part 589, that are ordinarily incident and necessary (1) to divest or transfer debt, equity, or other holdings in the following blocked persons to a non-U.S. person, or (2) to facilitate the transfer of debt, equity, or other holdings in the following blocked persons by a non-U.S. person to another non-U.S. person, are authorized through the Applicable Expiration Date, as defined in paragraph (f) of this general license:

• EN+ Group PLC

• GAZ Group

• United Company RUSAL PLC

(b) Except as provided in paragraph (d) of this general license, all transactions and activities otherwise prohibited by 31 CFR part 589 that are ordinarily incident and necessary (1) to divest or transfer debt, equity, or other holdings in EN+ Group PLC, GAZ Group, or United Company RUSAL PLC, or in entities in which those persons own, directly or indirectly, a 50 percent or greater interest, that were issued by the persons listed below (hereinafter, “Other Issuer Holdings”), to a non-U.S. person; or (2) to facilitate the transfer of Other Issuer Holdings by a non-U.S. person to another non-U.S. person, are authorized through the Applicable Expiration Date, as defined in paragraph (f) of this general license:

• Irkutskenergo

• GAZ Auto Plant

• Rusal Capital Designated Activity Company

(c) The transactions and activities authorized in paragraphs (a) and (b) include facilitating, clearing, and settling transactions to divest to a non-U.S. person debt, equity, or other holdings in EN+ Group PLC, GAZ Group, or United Company RUSAL PLC, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including EN+ Group PLC, GAZ Group, or United Company RUSAL PLC, other than purchases of or investments in debt, equity, or other holdings in those persons, or Other Issuer Holdings as described in paragraph (b) (including settlement of purchases or sales that were pending on April 6, 2018), that are ordinarily incident and necessary to the divestment or transfer of debt, equity, or other holdings in EN+ Group PLC, GAZ Group, or United Company RUSAL PLC, or Other Issuer Holdings as described in paragraph (b);

(3) Any transactions or dealings involving the property or interests in property of any person whose property and interests in property are blocked pursuant to 31 CFR part 589 other than EN+ Group PLC, GAZ Group, or United Company RUSAL PLC, or any entity in which those persons have a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) For purposes of this general license, the term Applicable Expiration Date means:

(1) With respect to transactions authorized by this general license involving GAZ Group or entities in which GAZ Group owns, directly or indirectly, a 50 percent or greater interest, 12:01 a.m. eastern daylight time, October 23, 2018; and

(2) With respect to transactions authorized by this general license involving EN+ Group PLC or United Company RUSAL PLC, or entities in which those persons own, directly or indirectly, a 50 percent or greater interest, 12:01 eastern standard time, December 12, 2018.

(g) Effective October 12, 2018, General License No. 13D, dated September 21, 2018, is replaced and superseded in its entirety by this General License No. 13E.

Andrea Gacki,

Director, Office of Foreign Assets Control.

Dated: October 12, 2018.

OFFICE OF FOREIGN ASSETS CONTROL

Ukraine Related Sanctions Regulations 31 CFR Part 589

General License No. 13F

Authorizing Certain Transactions Necessary To Divest or Transfer Debt, Equity, or Other Holdings in Certain Blocked Persons

(a) Except as provided in paragraph (d) of this general license, all transactions and activities otherwise prohibited by the Ukraine Related Sanctions Regulations, 31 CFR part 589, that are ordinarily incident and necessary (1) to divest or transfer debt, equity, or other holdings in the following blocked persons to a non-U.S. person, or (2) to facilitate the transfer of debt, equity, or other holdings in the following blocked persons by a non-U.S. person to another non-U.S. person, are authorized through the Applicable Expiration Date, as defined in paragraph (f) of this general license:

• EN+ Group PLC

• GAZ Group

• United Company RUSAL PLC

(b) Except as provided in paragraph (d) of this general license, all transactions and activities otherwise prohibited by 31 CFR part 589 that are ordinarily incident and necessary (1) to divest or transfer debt, equity, or other holdings in EN+ Group PLC, GAZ Group, or United Company RUSAL PLC, or in entities in which those persons own, directly or indirectly, a 50 percent or greater interest, that were issued by the persons listed below (hereinafter, “Other Issuer Holdings”), to a non-U.S. person; or (2) to facilitate the transfer of Other Issuer Holdings by a non-U.S. person to another non-U.S. person, are authorized through the Applicable Expiration Date, as defined in paragraph (f) of this general license:

• Irkutskenergo

• GAZ Auto Plant

• Rusal Capital Designated Activity Company

(c) The transactions and activities authorized in paragraphs (a) and (b) include facilitating, clearing, and settling transactions to divest to a non-U.S. person debt, equity, or other holdings in EN+ Group PLC, GAZ Group, or United Company RUSAL PLC, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including EN+ Group PLC, GAZ Group, or United Company RUSAL PLC, other than purchases of or investments in debt, equity, or other holdings in those persons, or Other Issuer Holdings as described in paragraph (b) (including settlement of purchases or sales that were pending on April 6, 2018), that are ordinarily incident and necessary to the divestment or transfer of debt, equity, or other holdings in EN+ Group PLC, GAZ Group, or United Company RUSAL PLC, or Other Issuer Holdings as described in paragraph (b);

(3) Any transactions or dealings involving the property or interests in property of any person whose property and interests in property are blocked pursuant to 31 CFR part 589 other than EN+ Group PLC, GAZ Group, or United Company RUSAL PLC, or any entity in which those persons have a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) For purposes of this general license, the term Applicable Expiration Date means:

(1) With respect to transactions authorized by this general license involving GAZ Group or entities in which GAZ Group owns, directly or indirectly, a 50 percent or greater interest, 12:01 a.m. eastern standard time, December 12, 2018; and

(2) With respect to transactions authorized by this general license involving EN+ Group PLC or United Company RUSAL PLC, or entities in which those persons own, directly or indirectly, a 50 percent or greater interest, 12:01 eastern standard time, December 12, 2018.

(g) Effective October 19, 2018, General License No. 13E, dated October 12, 2018, is replaced and superseded in its entirety by this General License No. 13F.

Andrea Gacki,

Director, Office of Foreign Assets Control.

Dated: October 19, 2018.

OFFICE OF FOREIGN ASSETS CONTROL

Ukraine Related Sanctions Regulations 31 CFR Part 589

General License No. 13G

Authorizing Certain Transactions Necessary To Divest or Transfer Debt, Equity, or Other Holdings in Certain Blocked Persons

(a) Except as provided in paragraph (d) of this general license, all transactions and activities otherwise prohibited by the Ukraine Related Sanctions Regulations, 31 CFR part 589, that are ordinarily incident and necessary (1) to divest or transfer debt, equity, or other holdings in the following blocked persons to a non-U.S. person, or (2) to facilitate the transfer of debt, equity, or other holdings in the following blocked persons by a non-U.S. person to another non-U.S. person, are authorized through the Applicable Expiration Date, as defined in paragraph (f) of this general license:

• EN+ Group PLC

• GAZ Group

• United Company RUSAL PLC

(b) Except as provided in paragraph (d) of this general license, all transactions and activities otherwise prohibited by 31 CFR part 589 that are ordinarily incident and necessary (1) to divest or transfer debt, equity, or other holdings in EN+ Group PLC, GAZ Group, or United Company RUSAL PLC, or in entities in which those persons own, directly or indirectly, a 50 percent or greater interest, that were issued by the persons listed below (hereinafter, “Other Issuer Holdings”), to a non-U.S. person; or (2) to facilitate the transfer of Other Issuer Holdings by a non-U.S. person to another non-U.S. person, are authorized through the Applicable Expiration Date, as defined in paragraph (f) of this general license:

• Irkutskenergo

• GAZ Auto Plant

• Rusal Capital Designated Activity Company

(c) The transactions and activities authorized in paragraphs (a) and (b) include facilitating, clearing, and settling transactions to divest to a non-U.S. person debt, equity, or other holdings in EN+ Group PLC, GAZ Group, or United Company RUSAL PLC, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including EN+ Group PLC, GAZ Group, or United Company RUSAL PLC, other than purchases of or investments in debt, equity, or other holdings in those persons, or Other Issuer Holdings as described in paragraph (b) (including settlement of purchases or sales that were pending on April 6, 2018), that are ordinarily incident and necessary to the divestment or transfer of debt, equity, or other holdings in EN+ Group PLC, GAZ Group, or United Company RUSAL PLC, or Other Issuer Holdings as described in paragraph (b);

(3) Any transactions or dealings involving the property or interests in property of any person whose property and interests in property are blocked pursuant to 31 CFR part 589 other than EN+ Group PLC, GAZ Group, or United Company RUSAL PLC, or any entity in which those persons have a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) For purposes of this general license, the term Applicable Expiration Date means 12:01 a.m. eastern standard time January 7, 2019.

(g) Effective November 9, 2018, General License No. 13F, dated October 19, 2018, is replaced and superseded in its entirety by this General License No. 13G.

Andrea Gacki,

Director, Office of Foreign Assets Control.

Dated: November 9, 2018.

OFFICE OF FOREIGN ASSETS CONTROL

Ukraine Related Sanctions Regulations 31 CFR Part 589

General License No. 13H

Authorizing Certain Transactions Necessary To Divest or Transfer Debt, Equity, or Other Holdings in Certain Blocked Persons

(a) Except as provided in paragraph (d) of this general license, all transactions and activities otherwise prohibited by the Ukraine Related Sanctions Regulations, 31 CFR part 589, that are ordinarily incident and necessary (1) to divest or transfer debt, equity, or other holdings in the following blocked persons to a non-U.S. person, or (2) to facilitate the transfer of debt, equity, or other holdings in the following blocked persons by a non-U.S. person to another non-U.S. person, are authorized through the Applicable Expiration Date, as defined in paragraph (f) of this general license:

• EN+ Group PLC

• GAZ Group

• United Company RUSAL PLC

(b) Except as provided in paragraph (d) of this general license, all transactions and activities otherwise prohibited by 31 CFR part 589 that are ordinarily incident and necessary (1) to divest or transfer debt, equity, or other holdings in EN+ Group PLC, GAZ Group, or United Company RUSAL PLC, or in entities in which those persons own, directly or indirectly, a 50 percent or greater interest, that were issued by the persons listed below (hereinafter, “Other Issuer Holdings”), to a non-U.S. person; or (2) to facilitate the transfer of Other Issuer Holdings by a non-U.S. person to another non-U.S. person, are authorized through the Applicable Expiration Date, as defined in paragraph (f) of this general license:

• Irkutskenergo

• GAZ Auto Plant

• Rusal Capital Designated Activity Company

(c) The transactions and activities authorized in paragraphs (a) and (b) include facilitating, clearing, and settling transactions to divest to a non-U.S. person debt, equity, or other holdings in EN+ Group PLC, GAZ Group, or United Company RUSAL PLC, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including EN+ Group PLC, GAZ Group, or United Company RUSAL PLC, other than purchases of or investments in debt, equity, or other holdings in those persons, or Other Issuer Holdings as described in paragraph (b) (including settlement of purchases or sales that were pending on April 6, 2018), that are ordinarily incident and necessary to the divestment or transfer of debt, equity, or other holdings in EN+ Group PLC, GAZ Group, or United Company RUSAL PLC, or Other Issuer Holdings as described in paragraph (b);

(3) Any transactions or dealings involving the property or interests in property of any person whose property and interests in property are blocked pursuant to 31 CFR part 589 other than EN+ Group PLC, GAZ Group, or United Company RUSAL PLC, or any entity in which those persons have a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) For purposes of this general license, the term Applicable Expiration Date means 12:01 a.m. eastern standard time January 21, 2019.

(g) Effective December 7, 2018, General License No. 13G, dated November 9, 2018, is replaced and superseded in its entirety by this General License No. 13H.

Andrea Gacki,

Director, Office of Foreign Assets Control.

Dated: December 7, 2018.

OFFICE OF FOREIGN ASSETS CONTROL

Ukraine Related Sanctions Regulations 31 CFR Part 589

General License No. 13I

Authorizing Certain Transactions Necessary To Divest or Transfer Debt, Equity, or Other Holdings in Certain Blocked Persons

(a) Except as provided in paragraph (d) of this general license, all transactions and activities otherwise prohibited by the Ukraine Related Sanctions Regulations, 31 CFR part 589, that are ordinarily incident and necessary (1) to divest or transfer debt, equity, or other holdings in the following blocked persons to a non-U.S. person, or (2) to facilitate the transfer of debt, equity, or other holdings in the following blocked persons by a non-U.S. person to another non-U.S. person, are authorized through the Applicable Expiration Date, as defined in paragraph (f) of this general license:

• EN+ Group PLC

• GAZ Group

• United Company RUSAL PLC

(b) Except as provided in paragraph (d) of this general license, all transactions and activities otherwise prohibited by 31 CFR part 589 that are ordinarily incident and necessary (1) to divest or transfer debt, equity, or other holdings in EN+ Group PLC, GAZ Group, or United Company RUSAL PLC, or in entities in which those persons own, directly or indirectly, a 50 percent or greater interest, that were issued by the persons listed below (hereinafter, “Other Issuer Holdings”), to a non-U.S. person; or (2) to facilitate the transfer of Other Issuer Holdings by a non-U.S. person to another non-U.S. person, are authorized through the Applicable Expiration Date, as defined in paragraph (f) of this general license:

• Irkutskenergo

• GAZ Auto Plant

• Rusal Capital Designated Activity Company

(c) The transactions and activities authorized in paragraphs (a) and (b) include facilitating, clearing, and settling transactions to divest to a non-U.S. person debt, equity, or other holdings in EN+ Group PLC, GAZ Group, or United Company RUSAL PLC, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including EN+ Group PLC, GAZ Group, or United Company RUSAL PLC, other than purchases of or investments in debt, equity, or other holdings in those persons, or Other Issuer Holdings as described in paragraph (b) (including settlement of purchases or sales that were pending on April 6, 2018), that are ordinarily incident and necessary to the divestment or transfer of debt, equity, or other holdings in EN+ Group PLC, GAZ Group, or United Company RUSAL PLC, or Other Issuer Holdings as described in paragraph (b);

(3) Any transactions or dealings involving the property or interests in property of any person whose property and interests in property are blocked pursuant to 31 CFR part 589 other than EN+ Group PLC, GAZ Group, or United Company RUSAL PLC, or any entity in which those persons have a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) For purposes of this general license, the term Applicable Expiration Date means:

(1) With respect to transactions authorized by this general license involving GAZ Group or entities in which GAZ Group owns, directly or indirectly, a 50 percent or greater interest, 12:01 a.m. eastern standard time, March 7, 2019; and

(2) With respect to transactions authorized by this general license involving EN+ Group PLC or United Company RUSAL PLC, or entities in which those persons own, directly or indirectly, a 50 percent or greater interest, 12:01 a.m. eastern standard time January 21, 2019.

(g) Effective December 20, 2018, General License No. 13H, dated December 7, 2018, is replaced and superseded in its entirety by this General License No. 13I.

Andrea Gacki,

Director, Office of Foreign Assets Control.

Dated: December 20, 2018.

OFFICE OF FOREIGN ASSETS CONTROL

Ukraine Related Sanctions Regulations 31 CFR Part 589

General License No. 13J

Authorizing Certain Transactions Necessary To Divest or Transfer Debt, Equity, or Other Holdings in Certain Blocked Persons

(a) Except as provided in paragraph (d) of this general license, all transactions and activities otherwise prohibited by the Ukraine Related Sanctions Regulations, 31 CFR part 589, that are ordinarily incident and necessary (1) to divest or transfer debt, equity, or other holdings in the following blocked persons to a non-U.S. person, or (2) to facilitate the transfer of debt, equity, or other holdings in the following blocked persons by a non-U.S. person to another non-U.S. person, are authorized through the Applicable Expiration Date, as defined in paragraph (f) of this general license:

• EN+ Group PLC

• GAZ Group

• United Company RUSAL PLC

(b) Except as provided in paragraph (d) of this general license, all transactions and activities otherwise prohibited by 31 CFR part 589 that are ordinarily incident and necessary (1) to divest or transfer debt, equity, or other holdings in EN+ Group PLC, GAZ Group, or United Company RUSAL PLC, or in entities in which those persons own, directly or indirectly, a 50 percent or greater interest, that were issued by the persons listed below (hereinafter, “Other Issuer Holdings”), to a non-U.S. person; or (2) to facilitate the transfer of Other Issuer Holdings by a non-U.S. person to another non-U.S. person, are authorized through the Applicable Expiration Date, as defined in paragraph (f) of this general license:

• Irkutskenergo

• GAZ Auto Plant

• Rusal Capital Designated Activity Company

(c) The transactions and activities authorized in paragraphs (a) and (b) include facilitating, clearing, and settling transactions to divest to a non-U.S. person debt, equity, or other holdings in EN+ Group PLC, GAZ Group, or United Company RUSAL PLC, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including EN+ Group PLC, GAZ Group, or United Company RUSAL PLC, other than purchases of or investments in debt, equity, or other holdings in those persons, or Other Issuer Holdings as described in paragraph (b) (including settlement of purchases or sales that were pending on April 6, 2018), that are ordinarily incident and necessary to the divestment or transfer of debt, equity, or other holdings in EN+ Group PLC, GAZ Group, or United Company RUSAL PLC, or Other Issuer Holdings as described in paragraph (b);

(3) Any transactions or dealings involving the property or interests in property of any person whose property and interests in property are blocked pursuant to 31 CFR part 589 other than EN+ Group PLC, GAZ Group, or United Company RUSAL PLC, or any entity in which those persons have a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) For purposes of this general license, the term Applicable Expiration Date means:

(1) With respect to transactions authorized by this general license involving GAZ Group or entities in which GAZ Group owns, directly or indirectly, a 50 percent or greater interest, 12:01 a.m. eastern standard time, March 7, 2019; and

(2) With respect to transactions authorized by this general license involving EN+ Group PLC or United Company RUSAL PLC, or entities in which those persons own, directly or indirectly, a 50 percent or greater interest, 12:01 a.m. eastern standard time, January 28, 2019.

(g) Effective January 16, 2019, General License No. 13I, dated December 20, 2018, is replaced and superseded in its entirety by this General License No. 13J.

Andrea Gacki,

Director, Office of Foreign Assets Control.

Dated: January 16, 2019.

OFFICE OF FOREIGN ASSETS CONTROL

Ukraine Related Sanctions Regulations 31 CFR Part 589

General License No. 13K

Authorizing Certain Transactions Necessary To Divest or Transfer Debt, Equity, or Other Holdings in GAZ Group

(a) Except as provided in paragraph (d) of this general license, all transactions and activities otherwise prohibited by the Ukraine Related Sanctions Regulations, 31 CFR part 589, that are ordinarily incident and necessary (1) to divest or transfer debt, equity, or other holdings in GAZ Group to a non-U.S. person, or (2) to facilitate the transfer of debt, equity, or other holdings in GAZ Group by a non-U.S. person to another non-U.S. person, are authorized through 12:01 a.m. eastern daylight time, July 6, 2019.

(b) Except as provided in paragraph (d) of this general license, all transactions and activities otherwise prohibited by 31 CFR part 589 that are ordinarily incident and necessary (1) to divest or transfer debt, equity, or other holdings in GAZ Group, or in entities in which GAZ Group owns, directly or indirectly, a 50 percent or greater interest, that were issued by GAZ Auto Plant (hereinafter, “Other Issuer Holdings”), to a non-U.S. person; or (2) to facilitate the transfer of Other Issuer Holdings by a non-U.S. person to another non-U.S. person, are authorized through 12:01 a.m. eastern daylight time, July 6, 2019.

(c) The transactions and activities authorized in paragraphs (a) and (b) include facilitating, clearing, and settling transactions to divest to a non-U.S. person debt, equity, or other holdings in GAZ Group, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including GAZ Group, other than purchases of or investments in debt, equity, or other holdings in those persons, or Other Issuer Holdings as described in paragraph (b) (including settlement of purchases or sales that were pending on April 6, 2018), that are ordinarily incident and necessary to the divestment or transfer of debt, equity, or other holdings in GAZ Group, or Other Issuer Holdings as described in paragraph (b);

(3) Any transactions or dealings involving the property or interests in property of any person whose property and interests in property are blocked pursuant to 31 CFR part 589 other than GAZ Group, or any entity in which GAZ Group has a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) Effective March 6, 2019, General License No. 13J, dated January 16, 2019, is replaced and superseded in its entirety by this General License No. 13K.

Andrea Gacki,

Director, Office of Foreign Assets Control.

Dated: March 6, 2019.

OFFICE OF FOREIGN ASSETS CONTROL

Ukraine Related Sanctions Regulations 31 CFR Part 589

General License No. 13L

Authorizing Certain Transactions Necessary To Divest or Transfer Debt, Equity, or Other Holdings in GAZ Group

(a) Except as provided in paragraph (d) of this general license, all transactions and activities otherwise prohibited by the Ukraine Related Sanctions Regulations, 31 CFR part 589, that are ordinarily incident and necessary (1) to divest or transfer debt, equity, or other holdings in GAZ Group to a non-U.S. person, or (2) to facilitate the transfer of debt, equity, or other holdings in GAZ Group by a non-U.S. person to another non-U.S. person, are authorized through 12:01 a.m. eastern standard time, November 8, 2019.

(b) Except as provided in paragraph (d) of this general license, all transactions and activities otherwise prohibited by 31 CFR part 589 that are ordinarily incident and necessary (1) to divest or transfer debt, equity, or other holdings in GAZ Group, or in entities in which GAZ Group owns, directly or indirectly, a 50 percent or greater interest, that were issued by GAZ Auto Plant (hereinafter, “Other Issuer Holdings”), to a non-U.S. person; or (2) to facilitate the transfer of Other Issuer Holdings by a non-U.S. person to another non-U.S. person, are authorized through 12:01 a.m. eastern standard time, November 8, 2019.

(c) The transactions and activities authorized in paragraphs (a) and (b) include facilitating, clearing, and settling transactions to divest to a non-U.S. person debt, equity, or other holdings in GAZ Group, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including GAZ Group, other than purchases of or investments in debt, equity, or other holdings in those persons, or Other Issuer Holdings as described in paragraph (b) (including settlement of purchases or sales that were pending on April 6, 2018), that are ordinarily incident and necessary to the divestment or transfer of debt, equity, or other holdings in GAZ Group, or Other Issuer Holdings as described in paragraph (b);

(3) Any transactions or dealings involving the property or interests in property of any person whose property and interests in property are blocked pursuant to 31 CFR part 589 other than GAZ Group, or any entity in which GAZ Group has a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) Effective June 26, 2019, General License No. 13K, dated March 6, 2019, is replaced and superseded in its entirety by this General License No. 13L.

Andrea Gacki,

Director, Office of Foreign Assets Control.

Dated: June 26, 2019.

OFFICE OF FOREIGN ASSETS CONTROL

Ukraine Related Sanctions Regulations 31 CFR Part 589

General License No. 13M

Authorizing Certain Transactions Necessary To Divest or Transfer Debt, Equity, or Other Holdings in GAZ Group

(a) Except as provided in paragraph (d) of this general license, all transactions and activities otherwise prohibited by the Ukraine Related Sanctions Regulations, 31 CFR part 589, that are ordinarily incident and necessary (1) to divest or transfer debt, equity, or other holdings in GAZ Group to a non-U.S. person, or (2) to facilitate the transfer of debt, equity, or other holdings in GAZ Group by a non-U.S. person to another non-U.S. person, are authorized through 12:01 a.m. eastern daylight time, March 31, 2020.

(b) Except as provided in paragraph (d) of this general license, all transactions and activities otherwise prohibited by 31 CFR part 589 that are ordinarily incident and necessary (1) to divest or transfer debt, equity, or other holdings in GAZ Group, or in entities in which GAZ Group owns, directly or indirectly, a 50 percent or greater interest, that were issued by GAZ Auto Plant (hereinafter, “Other Issuer Holdings”), to a non-U.S. person; or (2) to facilitate the transfer of Other Issuer Holdings by a non-U.S. person to another non-U.S. person, are authorized through 12:01 a.m. eastern daylight time, March 31, 2020.

(c) The transactions and activities authorized in paragraphs (a) and (b) include facilitating, clearing, and settling transactions to divest to a non-U.S. person debt, equity, or other holdings in GAZ Group, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including GAZ Group, other than purchases of or investments in debt, equity, or other holdings in those persons, or Other Issuer Holdings as described in paragraph (b) (including settlement of purchases or sales that were pending on April 6, 2018), that are ordinarily incident and necessary to the divestment or transfer of debt, equity, or other holdings in GAZ Group, or Other Issuer Holdings as described in paragraph (b);

(3) Any transactions or dealings involving the property or interests in property of any person whose property and interests in property are blocked pursuant to 31 CFR part 589 other than GAZ Group, or any entity in which GAZ Group has a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) Effective November 1, 2019, General License No. 13L, dated June 26, 2019, is replaced and superseded in its entirety by this General License No. 13M.

Andrea Gacki,

Director, Office of Foreign Assets Control.

Dated: November 1, 2019.

OFFICE OF FOREIGN ASSETS CONTROL

Ukraine Related Sanctions Regulations 31 CFR Part 589

General License No. 13N

Authorizing Certain Transactions Necessary To Divest or Transfer Debt, Equity, or Other Holdings in GAZ Group

(a) Except as provided in paragraph (d) of this general license, all transactions and activities otherwise prohibited by the Ukraine Related Sanctions Regulations, 31 CFR part 589, that are ordinarily incident and necessary (1) to divest or transfer debt, equity, or other holdings in GAZ Group to a non-U.S. person, or (2) to facilitate the transfer of debt, equity, or other holdings in GAZ Group by a non-U.S. person to another non-U.S. person, are authorized through 12:01 a.m. eastern daylight time, July 22, 2020.

(b) Except as provided in paragraph (d) of this general license, all transactions and activities otherwise prohibited by 31 CFR part 589 that are ordinarily incident and necessary (1) to divest or transfer debt, equity, or other holdings in GAZ Group, or in entities in which GAZ Group owns, directly or indirectly, a 50 percent or greater interest, that were issued by GAZ Auto Plant (hereinafter, “Other Issuer Holdings”), to a non-U.S. person; or (2) to facilitate the transfer of Other Issuer Holdings by a non-U.S. person to another non-U.S. person, are authorized through 12:01 a.m. eastern daylight time, July 22, 2020.

(c) The transactions and activities authorized in paragraphs (a) and (b) include facilitating, clearing, and settling transactions to divest to a non-U.S. person debt, equity, or other holdings in GAZ Group, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including GAZ Group, other than purchases of or investments in debt, equity, or other holdings in those persons, or Other Issuer Holdings as described in paragraph (b) (including settlement of purchases or sales that were pending on April 6, 2018), that are ordinarily incident and necessary to the divestment or transfer of debt, equity, or other holdings in GAZ Group, or Other Issuer Holdings as described in paragraph (b);

(3) Any transactions or dealings involving the property or interests in property of any person whose property and interests in property are blocked pursuant to 31 CFR part 589 other than GAZ Group, or any entity in which GAZ Group has a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) Effective March 20, 2020, General License No. 13M, dated November 1, 2019, is replaced and superseded in its entirety by this General License No. 13N.

Andrea Gacki,

Director, Office of Foreign Assets Control.

Dated: March 20, 2020.

OFFICE OF FOREIGN ASSETS CONTROL

Ukraine Related Sanctions Regulations 31 CFR Part 589

General License No. 13O

Authorizing Certain Transactions Necessary To Divest or Transfer Debt, Equity, or Other Holdings in GAZ Group

(a) Except as provided in paragraph (d) of this general license, all transactions and activities otherwise prohibited by the Ukraine Related Sanctions Regulations, 31 CFR part 589, that are ordinarily incident and necessary (1) to divest or transfer debt, equity, or other holdings in GAZ Group to a non-U.S. person, or (2) to facilitate the transfer of debt, equity, or other holdings in GAZ Group by a non-U.S. person to another non-U.S. person, are authorized through 12:01 a.m. eastern standard time, January 22, 2021.

(b) Except as provided in paragraph (d) of this general license, all transactions and activities otherwise prohibited by 31 CFR part 589 that are ordinarily incident and necessary (1) to divest or transfer debt, equity, or other holdings in GAZ Group, or in entities in which GAZ Group owns, directly or indirectly, a 50 percent or greater interest, that were issued by GAZ Auto Plant (hereinafter, “Other Issuer Holdings”), to a non-U.S. person; or (2) to facilitate the transfer of Other Issuer Holdings by a non-U.S. person to another non-U.S. person, are authorized through 12:01 a.m. eastern standard time, January 22, 2021.

(c) The transactions and activities authorized in paragraphs (a) and (b) include facilitating, clearing, and settling transactions to divest to a non-U.S. person debt, equity, or other holdings in GAZ Group, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including GAZ Group, other than purchases of or investments in debt, equity, or other holdings in those persons, or Other Issuer Holdings as described in paragraph (b) (including settlement of purchases or sales that were pending on April 6, 2018), that are ordinarily incident and necessary to the divestment or transfer of debt, equity, or other holdings in GAZ Group, or Other Issuer Holdings as described in paragraph (b);

(3) Any transactions or dealings involving the property or interests in property of any person whose property and interests in property are blocked pursuant to 31 CFR part 589 other than GAZ Group, or any entity in which GAZ Group has a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email (preferred) to OFACReport@treasury.gov.

(f) Effective July 16, 2020, General License No. 13N, dated March 20, 2020, is replaced and superseded in its entirety by this General License No. 13O.

Andrea Gacki,

Director, Office of Foreign Assets Control.

Dated: July 16, 2020.

OFFICE OF FOREIGN ASSETS CONTROL

Ukraine Related Sanctions Regulations 31 CFR Part 589

General License No. 13P

Authorizing Certain Transactions Necessary To Divest or Transfer Debt, Equity, or Other Holdings in GAZ Group

(a) Except as provided in paragraph (d) of this general license, all transactions and activities otherwise prohibited by the Ukraine Related Sanctions Regulations, 31 CFR part 589, that are ordinarily incident and necessary (1) to divest or transfer debt, equity, or other holdings in GAZ Group to a non-U.S. person, or (2) to facilitate the transfer of debt, equity, or other holdings in GAZ Group by a non-U.S. person to another non-U.S. person, are authorized through 12:01 a.m. eastern standard time, January 26, 2022.

(b) Except as provided in paragraph (d) of this general license, all transactions and activities otherwise prohibited by 31 CFR part 589 that are ordinarily incident and necessary (1) to divest or transfer debt, equity, or other holdings in GAZ Group, or in entities in which GAZ Group owns, directly or indirectly, a 50 percent or greater interest, that were issued by GAZ Auto Plant (hereinafter, “Other Issuer Holdings”), to a non-U.S. person; or (2) to facilitate the transfer of Other Issuer Holdings by a non-U.S. person to another non-U.S. person, are authorized through 12:01 a.m. eastern standard time, January 26, 2022.

(c) The transactions and activities authorized in paragraphs (a) and (b) include facilitating, clearing, and settling transactions to divest to a non-U.S. person debt, equity, or other holdings in GAZ Group, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including GAZ Group, other than purchases of or investments in debt, equity, or other holdings in those persons, or Other Issuer Holdings as described in paragraph (b) (including settlement of purchases or sales that were pending on April 6, 2018), that are ordinarily incident and necessary to the divestment or transfer of debt, equity, or other holdings in GAZ Group, or Other Issuer Holdings as described in paragraph (b);

(3) Any transactions or dealings involving the property or interests in property of any person whose property and interests in property are blocked pursuant to 31 CFR part 589 other than GAZ Group, or any entity in which GAZ Group has a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email (preferred) to OFACReport@treasury.gov.

(f) Effective December 23, 2020, General License No. 13O, dated July 16, 2020, is replaced and superseded in its entirety by this General License No. 13P.

Bradley T. Smith,

Deputy Director, Office of Foreign Assets Control.

Dated: December 23, 2020.

Dated: July 19, 2021.
Bradley T. Smith,
Acting Director, Office of Foreign Assets Control.

[FR Doc. 2021-15668 Filed 7-27-21; 8:45 am]

BILLING CODE 4810-AL-P